DEPARTMENT OF THE INTERIOR

Fish and Wildlife Service

Information Collection To Be Sent to the Office of Management and Budget (OMB) for Approval Under the Paperwork Reduction Act; Trade of Threatened Beluga Sturgeon (Huso huso)

AGENCY: Fish and Wildlife Service, Interior.

ACTION: Notice; request for comments.

SUMMARY: We (Fish and Wildlife Service or Service) plan to send the collection of information described below to OMB for approval under the provisions of the Paperwork Reduction Act of 1995. The information collected is needed to effectively implement the provisions of the special rule to control the trade of threatened beluga sturgeon (Huso huso) (70 FR 10493, March 4, 2005). That rule requires that range countries for beluga sturgeon provide us with information and reports on a variety of issues related to beluga sturgeon conservation and trade. This information is necessary for us to gauge the effectiveness of international management efforts in the Caspian Sea and Black Sea regions, and to determine if the permit exemptions granted under the special rule are bringing about appropriate actions by national fisheries authorities and multilateral agreements.

DATES: You must submit comments on or before August 29, 2005.

ADDRESSES: Send your comments on this information collection to Hope Grey, Information Collection Clearance Officer, Fish and Wildlife Service, MS-222-ARLSQ, 4401 North Fairfax Drive, Arlington, VA 22203; hope_grey@fws.gov (e-mail); or (703) 358-2269 (fax).

FOR FURTHER INFORMATION CONTACT: To request a copy of the information collection requirements, explanatory information, or related materials, contact Hope Grey at the above addresses or by telephone at (703) 358-2482.

SUPPLEMENTARY INFORMATION: OMB regulations at 5 CFR part 1320, which implement provisions of the Paperwork Reduction Act of 1995 (44 U.S.C. 3501 et seq.), require that interested members of the public and affected agencies have an opportunity to comment on information collection and recordkeeping activities (see 5 CFR 1320.8(d)). We plan to send a request to OMB for approval of the collection of information required by the special rule to control the trade of threatened beluga sturgeon (70 FR 10493, March 4, 2005). Federal agencies may not conduct or sponsor and a person is not required to respond to a collection of information unless it displays a currently valid OMB control number. However, there is no OMB control number for this information collection because fewer than 10 entities currently commercially trade in beluga caviar and, therefore, this requirement under the Paperwork Reduction Act does not apply. While an OMB control number is not necessary for collections that have such a low number of affected parties, it is reasonable to assume that there may be additional applicants or affected parties in the coming years. Therefore, we will request a 3-year term of approval for this information collection.

The special rule requires that range countries for beluga sturgeon develop multilateral fishery management plans, implement appropriate sturgeon fisheries laws and regulations, and provide biennial reports to us on a variety of issues related to beluga sturgeon conservation and trade. Range countries must do this if they wish to have an exemption to the standard threatened species permits issued under 50 CFR part 17, normally required under the Endangered Species Act to import, export, re-export, or conduct interstate commerce in listed species.

The special rule also requires certain information from U.S. and foreign aquaculture facilities wishing to trade in beluga sturgeon products without threatened species permits. If such facilities wish to import, re-export, or conduct U.S. interstate commerce in their beluga sturgeon products without threatened species permits, they must submit proof that they have agreements with one or more range countries to research, protect, or recover wild beluga sturgeon. These facilities must use captive-bred broodstock in all of their beluga sturgeon production. Also, upon application for a permit exemption under the special rule, these facilities must submit proof that the relevant government authority certifies they are following aquaculture best-management practices to prevent the escape of live specimens or pathogens into surrounding habitats. Finally, these facilities must also submit biennial reports to the Service documenting their collaboration with beluga sturgeon range countries to study and conserve wild beluga sturgeon. We will use the information collected from the relevant aquaculture facilities to determine if the special rule's exemptions are having the intended effect of capacity building and technology transfer from viable businesses to the range countries.

Beluga sturgeon are currently known to occur only in the Caspian and Black Seas and certain rivers connected to these basins. Of the 14 countries where the species still occurs, only 11 have significant beluga sturgeon habitat in the Caspian Sea, Black Sea, or Danube River, and, consequently, these countries (Azerbaijan, Bulgaria, Georgia, Islamic Republic of Iran, Kazakhstan, Romania, Russian Federation, Serbia and Montenegro, Turkey, Turkmenistan, and Ukraine; hereafter referred to as the “littoral states”) take responsibility for cooperative management of the species. Only eight of these countries (Azerbaijan, Bulgaria, Islamic Republic of Iran, Kazakhstan, Romania, Russian Federation, Serbia and Montenegro, and Turkmenistan) currently permit commercial harvest and export of beluga sturgeon.

Overharvest, severe habitat degradation, and other factors led to the listing of beluga sturgeon as threatened throughout its range under the Endangered Species Act (Act) and in Appendix II of the Convention on International Trade in Endangered Species of Wild Fauna and Flora (CITES). On March 4, 2005, we issued a special rule under Section 4(d) of the Act to control the trade in beluga sturgeon, monitor the effects of commercial aquaculture on recovery of wild beluga sturgeon populations, and effect robust conservation programs in the littoral states. The 4(d) rule prohibits all trade (import, export, re-export, and foreign and interstate commerce) in beluga sturgeon and beluga sturgeon products, except as provided in the special rule or with permits under the provisions of Section 10 of the Act. This special rule initially allows littoral states 6 months from the rule's effective date to submit a suite of reports, including information on management measures, to us for review. During this initial 6-month period, imports, re-exports, and exports of, and interstate and foreign commerce in, certain beluga sturgeon caviar and meat may continue without a requirement for threatened species permits. This is intended to provide the littoral states time to submit the required documents. Similarly, we will consider making programmatic permit exemptions for commercial aquaculture facilities outside the littoral states if they meet certain criteria for: (1) Enhancing the survival of populations of wild beluga sturgeon and (2) not threatening native aquatic fauna in the country in which the facility is located. CITES documentation will still be required for any international movement of beluga sturgeon and beluga sturgeon products, except as they may qualify for an exemption as personal or household effects.

By September 6, 2005, each littoral state wishing to export beluga caviar or beluga meat to the United States without the need for a threatened species permit issued under 50 CFR 17.32 must submit to the Service's Division of Scientific Authority a copy of a cooperative management plan for that state's respective basin. This plan must be agreed to by each littoral state in the relevant basin (not just exporting nations). These comprise Bulgaria, Georgia, Romania, Serbia and Montenegro, Turkey, and Ukraine in the Black Sea and Danube River, and, in the Caspian Sea, Azerbaijan, the Islamic Republic of Iran, Kazakhstan, the Russian Federation, and Turkmenistan. This basinwide management plan must contain the following elements:

1. A clear statement of the recovery and management objectives for the plan, including a specification of the stock(s) concerned, a definition of what constitutes overfishing for that stock, and a rebuilding objective and schedule for that stock;

2. A statement of standard fishery management measures and habitat improvement strategies the nations involved will use (e.g., size limits, target harvest rates, quotas, seasons, fishing gear, effort caps, fish passage improvement, water quality controls);

3. A complete statement of the specific regulatory, monitoring, and research requirements that each cooperating nation must implement to comply with the management plan;

4. A complete description of how stock survey data and fisheries data are used to establish annual catch and export quotas, including a full explanation of any models used and the assumptions underlying those models;

5. Procedures under which the nations may implement and enforce alternative management measures that achieve the same conservation benefits for beluga sturgeon as the standards mentioned in paragraph 2; and

6. A complete schedule showing when nations must take particular actions to comply with the plan.

Within 90 days of receipt, the Service's Division of Scientific Authority will review these basinwide management plans for completeness and clarity. If any elements of the management plans are missing or unclear, we will give the appropriate littoral states 60 days to provide additional information. If the littoral states fail to respond or fail to submit basinwide management plans by the specified deadlines, or if we are unable to confirm that all littoral states are signatories to those plans, we will immediately suspend trade with all littoral states in the given basin (Caspian Sea or Black Sea) until we are satisfied that such management plans exist and have been agreed to by the relevant countries.

Also by September 6, 2005, the effective date of this special rule, all littoral states wishing to export beluga caviar and meat to the United States under an exemption from threatened species permits must submit copies of national legislation and national fishery regulations pertaining to the harvest, trade, aquaculture, restocking, and processing of beluga sturgeon. These laws and regulations must exhibit clear means to implement the cooperative management plans mentioned in paragraph 1 above. The Service's Division of Scientific Authority will review these laws and regulations for completeness and clarity within 90 days of receipt. If any elements of the national legislation or national fishery regulations are missing or unclear, we will ask the appropriate littoral state(s) to provide additional information within 60 days of the date we contact them. If the littoral states fail to respond or fail to submit copies of national laws and regulations by the specified deadlines, we will immediately suspend trade with the given littoral states until we are satisfied that such laws and regulations are in effect.

No later than December 1, 2005, and every 2 years on that anniversary, all littoral states wishing to export beluga sturgeon products to the United States must submit a report to the Service. This report must contain, at a minimum:

1. A description of the specific fishery regulations that affect the harvest of Huso huso in the respective littoral state, with any changes from the previous report highlighted;

2. A description of any revisions to the cooperative management program mentioned above, including any new models, assumptions, or equations used to set harvest and export quotas;

3. Updated time-series of information on beluga sturgeon obtained from monitoring programs, including estimates of relative or absolute stock size, fishing mortality, natural mortality, spawning activity, habitat use, hatchery and restocking programs, and other relevant subjects;

4. A summary of law enforcement activities undertaken in the last 2 years, and a description of any changes in programs to prevent poaching and smuggling, including indicators of their effectiveness;

5. A summary of the revenues the commercial exploitation of beluga sturgeon generates in the respective littoral state, and a summary of any documented conservation benefits resulting from the commercial harvest program in that country (e.g., revenues allocated to hatchery and restocking programs or research programs); and

6. Export data for the previous 2 calendar years.

Starting in December 2005, we will review information in the littoral state reports and any other pertinent information on wild beluga sturgeon conservation. Thereafter, we will conduct reviews biennially within 90 days of receiving the reports. If any elements of the biennial reports are missing or unclear, we will give the appropriate littoral states 60 days to provide additional information. If the littoral states fail to respond or fail to submit biennial reports by the specified deadline, we will immediately suspend trade with the given littoral states. We will use these reviews to determine if littoral state management programs are leading to recovery of wild beluga sturgeon stocks.

Based on the review of biennial reports, we propose to administratively suspend or restrict imports, re-exports, exports, and interstate commerce involving beluga sturgeon products from the littoral states if we determine that wild beluga sturgeon stock status worsens or threats to the species increase. Any such restriction would also apply to foreign commerce in beluga sturgeon products involving persons under U.S. jurisdiction.

Except in certain circumstances, the special rule does not exempt beluga sturgeon or any beluga sturgeon products derived from aquaculture or grow-out operations outside the littoral states from the provisions of the Act, which could (1) undermine the incentives for conserving wild Huso huso in the littoral states; (2) utilize Huso huso broodstock from the littoral states without any direct benefit to wild populations; and (3) result in the release of beluga sturgeon or disease pathogens into habitats outside their native range. Therefore, import, export, re-export, or interstate or foreign commerce involving any beluga sturgeon products that originate from aquaculture operations outside the littoral states will normally require a threatened species permit in addition to any applicable CITES documents (except as provided for captive-bred wildlife in 50 CFR 17.21(g)). However, we will consider programmatic exemptions to this prohibition for beluga caviar and meat from aquaculture facilities that provide information to our offices that demonstrate (1) the relevant regulatory agency has certified that the facility uses best-management practices to prevent escapes and disease introduction into surrounding habitats, and the Service has approved the specific practices; (2) the facility has entered into a formal agreement with one or more littoral states to study, conserve, or otherwise enhance the survival of wild populations of beluga sturgeon; and (3) the facility uses only captive-bred beluga sturgeon (i.e., captive F1 generation and beyond) in its production systems. We will require the facilities to file biennial reports so we can document the results and efficacy of any arrangements with littoral states.

Title: Trade of Threatened Beluga Sturgeon (Huso huso).

Form number: None.

Frequency: For littoral states, an initial reporting requirement for basinwide management plans and national regulations is due by September 6, 2005. Biennial reports are due from littoral state governments on December 1, 2005, and every 2 years thereafter. For aquaculture facilities outside the littoral states, we require an initial application with relevant documents followed by biennial reports on the anniversary of the exemption.

Description of respondents: Foreign government officials and sturgeon aquaculture businesses.

Total annual burden hours: For littoral state governments in 2005: 5,120 hours; for biennial reporting years: 1,280 hours. For aquaculture facilities: 80 hours in year of application, 80 hours in biennial reporting years.

Total annual responses: Nine (eight littoral state governments, one commercial aquaculture facility).

We invite your comments on: (1) Whether or not the collection of information is necessary for the proper performance of the functions of the agency, including whether or not the information will have practical utility; (2) the accuracy of the agency's estimate of the burden of the information collection; (3) ways to enhance the quality, utility, and clarity of the information to be collected; and (4) ways to minimize the burden of the collection of information on respondents.

Dated: June 20, 2005.
Hope Grey,
Information Collection Clearance Officer, Fish and Wildlife Service.

[FR Doc. 05-12854 Filed 6-28-05; 8:45 am]

BILLING CODE 4310-55-P